DEPARTMENT OF VETERANS AFFAIRS

[OMB Control No. 2900-New]

Agency Information Collection Activities Under OMB Review

AGENCY: Office of Management, Department of Veterans Affairs.

ACTION: Notice.

SUMMARY: In compliance with the Paperwork Reduction Act (PRA) of 1995 (44 U.S.C., 3501 et seq.), this notice announces that the Office of Management (OM), Department of Veterans Affairs, has submitted the collection of information abstracted below to the Office of Management and Budget (OMB) for review and comment. The PRA submission describes the nature of the information collection and its expected cost and burden; it includes the actual data collection instrument.

DATES: Comments must be submitted on or before September 19, 2002. For Further Information or a Copy of the Submission Contact: Denise McLamb, Records Management Service (005E3), Department of Veterans Affairs, 810 Vermont Avenue, NW, Washington, DC 20420, (202) 273-8030, FAX (202) 273-5981 or e-mail: denise.mclamb@mail.va.gov. Please refer to “OMB Control No. 2900-New.”

Send comments and recommendations concerning any aspect of the information collection to VA's OMB Desk Officer, OMB Human Resources and Housing Branch, New Executive Office Building, Room 10235, Washington, DC 20503 (202) 395-7316. Please refer to “OMB Control No. 2900-New” in any correspondence.

SUPPLEMENTARY INFORMATION: Title: Donations to National Veterans Museum (Via Credit Card), VA Form 5579a. OMB Control Number: 2900-New. Type of Review: New Collection. Abstract: VA Form 5579a will be used to accept donations via credit cards from individuals and corporations who wish to make a contribution to VA's National Veterans Museum. The Museum will tell the story of VA's link to American history. A range of interactive exhibits will introduce visitors to the services provided by VA and its precursors including the: (1) Benefits programs; (2) health care services and medical research; and (3) National Cemeteries. The Museum will include state-of-art theatrical presentations, a Connection Center where visitors can use multimedia computer terminals with Internet access, and interactive audio-visual exhibits.

An agency may not conduct or sponsor, and a person is not required to respond to a collection of information unless it displays a currently valid OMB control number. The Federal Register Notice with a 60-day comment period soliciting comments on this collection of information was published on June 3, 2002, at page 38319-38320. Affected Public: Individuals or households and business or other for profit. Estimated Annual Burden: 83 hours. Estimated Average Burden Per Respondent: 1 minute. Frequency of Response: One-time. Estimated Number of Respondents: 5,000.

Dated: August 8, 2002.
By direction of the Secretary.
Ernesto Castro,
Director, Records Management Service.

[FR Doc. 02-21119 Filed 8-19-02; 8:45 am]

BILLING CODE 8320-01-U